DEPARTMENT OF COMMERCE

National Oceanic and Atmospheric Administration

RIN 0648-XH083

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Monitoring Committee will hold a public webinar meeting.

DATES: The meeting will be held on Wednesday, July 31, 2019 from 10:00 a.m. to 12:00 p.m. For agenda details, see SUPPLEMENTARY INFORMATION.

ADDRESSES: The meeting will be held via webinar, which can be accessed at: http://mafmc.adobeconnect.com/fsb-mc-july2019/. Meeting audio can also be accessed via telephone by dialing 1-800-832-0736 and entering room number 4472108.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet via webinar to review and provide feedback on the results of a Management Strategy Evaluation (MSE) for recreational summer flounder management, which models alternative management options for the recreational summer flounder fishery to compare the expected performance of different management strategies and measures. Meeting materials will be posted to http://www.mafmc.org/council-events/2019/sfsbsb-mc-webinar-july31.

Special Accommodations

The meeting is physically accessible to people with disabilities. Requests for sign language interpretation or other auxiliary aids should be directed to M. Jan Saunders at the Mid-Atlantic Council Office (302) 526-5251 at least 5 days prior to the meeting date.

Authority: 16 U.S.C. 1801 et seq.

Dated: July 3, 2019.
Tracey L. Thompson,
Acting Deputy Director, Office of Sustainable Fisheries, National Marine Fisheries Service.

[FR Doc. 2019-14518 Filed 7-8-19; 8:45 am]

BILLING CODE 3510-22-P